DEPARTMENT OF HOMELAND SECURITY

Coast Guard

46 CFR Parts 10, 12, and 15

[USCG-1999-5610]

RIN 1625-AA24 (Formerly RIN 2115-AF83)

Training and Qualifications for Personnel on Passenger Ships

AGENCY: Coast Guard, DHS.

ACTION: Final rule.

SUMMARY: This final rule adopts without changes the interim rule published on October 30, 2002, which established requirements of training and certification for masters, certain licensed officers, and certain crewmembers on most vessels inspected under subchapter H, T, or K. It is intended to help reduce human error, improve the ability of crewmembers to assist passengers during emergencies, and promote safety.

DATES: This final rule is effective July 12, 2004.

ADDRESSES: Comments and material received from the public, as well as documents mentioned in this preamble as being available in the docket, are part of docket USCG-1999-5610 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: For questions on this rule, call Mark Gould, Project Manager, Commandant (G-MSO-1), Coast Guard, telephone (202) 267-6890. If you have questions on viewing the docket, call Andrea M. Jenkins, Program Manager, Docket Operations, telephone (202) 366-0271.

SUPPLEMENTARY INFORMATION:

Interim Rule

On October 30, 2002, we published an interim rule with request for comments (67 FR 66063; effective January 28, 2003). The interim rule established training and certification requirements for masters, certain licensed officers, and certain crewmembers on ships inspected under 46 CFR subchapters H, T, and K. It did not apply to roll-on/roll-off passenger ships carrying more than 12 passengers on international voyages, or to passenger ships on domestic voyages. The interim rule implemented Regulation V/3 of the International Convention on Standards of Training, Certification and Watchkeeping for Seafarers, 1978, as amended in 1997.

We issued an interim rule instead of a final rule in order to give the public time to comment on a change we made in 46 CFR 12.35-5 subsequent to publication of the Notice of Proposed Rulemaking (NPRM; 65 FR 37507, June 15, 2000). That section provides general requirements for unlicensed persons who serve on passenger ships and perform duties that involve safety or care for passengers. The public comment period for the interim rule ended December 20, 2002.

We received no comments in response to our interim rule and request for comments. Because no reason to change the rule has been brought to our attention, we now announce our decision to finalize the interim rule. Pursuant to the Administrative Procedure Act, 30 days must elapse before the final rule takes effect, and during that period the interim rule will continue to be in effect.

Regulatory Evaluation

The analyses we conducted in connection with the interim rule all remain unchanged, and the Analysis Documentation prepared for the interim rule remains in the docket. This rule is not a “significant regulatory action” under section 3(f) of Executive Order 12866, Regulatory Planning and Review, and does not require an assessment of potential costs and benefits under section 6(a)(3) of that Order. The Office of Management and Budget (OMB) has not reviewed it under that Order. It is not “significant” under the regulatory policies and procedures of the Department of Homeland Security (DHS). Please consult the Regulatory Evaluation provided in the interim rule for further information.

Collection of Information

As described in the NPRM and in the Analysis Documentation, the interim rule contained three added requirements that call for collection of information under the Paperwork Reduction Act of 1995 (44 U.S.C. 3501-3520). We received no comments on the collection of information in our request for comments in the NPRM.

As required by 44 U.S.C. 3507(d), we submitted a copy of this rule to OMB for its review of the collection of information. OMB has approved the collection. The section numbers are §§ 10.1105, 12.35-5, and 15.1103, and the corresponding approval number from OMB is OMB Control Number 1625-0079 (formerly OMB Control Number 2115-0624), which expires on February 28, 2006.

List of Subjects

46 CFR Part 10

Penalties, Reporting and recordkeeping requirements, Schools, Seamen.

46 CFR Part 12

Penalties, Reporting and recordkeeping requirements, Seamen.

46 CFR Part 15

Reporting and recordkeeping requirements, Seamen, Vessels.

PART 10—LICENSING OF MARITIME PERSONNEL

PART 12—CERTIFICATION OF SEAMEN

PART 15—MANNING REQUIREMENTS

Accordingly, the interim rule amending 46 CFR parts 10, 12, and 15 which was published at 67 FR 66063 on October 30, 2002, is adopted as a final rule without change.

Dated: June 2, 2004.
T.H. Gilmour,
Rear Admiral, U.S. Coast Guard, Assistant Commandant for Marine Safety, Security and Environmental Protection.

[FR Doc. 04-13174 Filed 6-9-04; 8:45 am]

BILLING CODE 4910-15-P